DEPARTMENT OF DEFENSE

Office of the Secretary

Notice of Proposed Solicitation for Cooperative Agreement Applications (SCAA)

AGENCY: Defense Logistics Agency, DOD.

ACTION: Proposed solicitation for cost sharing cooperative agreement applications.

SUMMARY: The Defense Logistics Agency (DLA) executes the DoD Procurement Technical Assistance Program (PTAP) by awarding cost sharing cooperative agreements to assist eligible entities in establishing or maintaining procurement technical assistance centers (PTACs) pursuant to chapter 142 of title 10, United States Code. Eligible entities include States, local governments, private nonprofit organizations, tribal organizations and economic enterprises.

In order to maintain continuity of the program, DLA will be issuing a follow-on to the Solicitation for Cooperative Agreement Applications (SCAA) issued on April 7, 2008. This SCAA, when issued, will govern the submission of applications to be considered for base year cost sharing cooperative agreement awards in Fiscal Year 2011. This SCAA will also allow for two option period awards in Fiscal Years 2012 and 2013. A proposed version of this SCAA, which contains a number of changes from the April 7, 2008 SCAA, will be posted for comment on or about May 5, 2010 at http://www.dla.mil/db/ptap.asp (select “Information for PTAP funding recipients” at the bottom of the page). Printed copies are not available for distribution.

Written comments regarding this proposed SCAA may be submitted via mail to Headquarters, Defense Logistics Agency, Office of Small Business Programs (Attn: Grants Officer), 8725 John J. Kingman Road, Suite 1127, Fort Belvoir, VA 22060-6221 or via e-mail to PTAP@dla.mil.

All comments must be received by June 4, 2010, for them to receive consideration. It is anticipated that the final SCAA will be posted on the DLA Web site by June 30, 2010. A notice will be posted at Grants.gov announcing the SCAA along with details on how to submit applications.

Note: Eligible entities meeting the definition of 10 U.S.C 2411(1)(D) (tribal organizations and economic enterprises) who are either current recipients of cooperative agreements under the program or who wish to apply to establish a new program need not apply under this SCAA. A separate SCAA will be issued in Fiscal Year 2011 for both the continuation of existing and the establishment of new Native American PTACs.

FOR FURTHER INFORMATION CONTACT: DLA Office of Small Business Programs at (703) 767-1660.

Dated: April 30, 2010.
Mitchell S. Bryman,
Alternate OSD Federal Register Liaison Officer, Department of Defense.

[FR Doc. 2010-10540 Filed 5-4-10; 8:45 am]

BILLING CODE 5001-06-P